DEPARTMENT OF HEALTH AND HUMAN SERVICES

Centers for Disease Control and Prevention

[60Day-05-0242x]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call 404-371-5983 and send comments to Seleda Perryman, CDC Assistant Reports Clearance Officer, 1600 Clifton Road, MS-D74, Atlanta, GA 30333 or send an e-mail to omb@cdc.gov.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Written comments should be received within 60 days of this notice.

Proposed Project

Estimating the Cost of Sigmoidoscopy and Colonoscopy for Colorectal Cancer Screening in U.S. Healthcare Facilities—New—National Center for Chronic Disease Prevention and Health Promotion (NCCDPHP), Division of Cancer Prevention and Control (DCPC), Centers for Disease Control and Prevention (CDC).

Background and Brief Description

Colorectal cancer (CRC) is the second leading cause of cancer-related deaths in the United States. In 2005, it is estimated that approximately 56,300 Americans will die from CRC and about 145,300 new cases will be diagnosed. The risk of developing CRC increases with advancing age. More than 90% of newly diagnosed CRCs occur in persons 50 years of age and older. Several scientific studies have demonstrated that regular screening for CRC reduces the incidence and mortality from this disease. Other studies have shown that regular screening for CRC is also cost-effective in terms of years of life saved.

Despite strong scientific evidence and evidence-based clinical guidelines recommending screening, current screening rates remain low. A recent CDC study reported that more than 40 million Americans who are 50 years of age or older and at average risk for CRC have not been screened in accordance with current guidelines. The study also reported that screening this population with current endoscopic (i.e., flexible sigmoidoscopy and colonoscopy) capacity in the health care system could require as much as ten years to complete. In view of the current shortage in endoscopic capacity, an effective national effort to promote CRC screening could increase the demand for endoscopic procedures.

It has been reported that reimbursements for endoscopic procedures in publicly-funded programs may not be adequate to cover the costs of performing these procedures. This may be a disincentive for providers to perform endoscopy procedures. Currently, there is little information available about the actual costs of providing these procedures in different types of healthcare facilities in the United States.

The purpose of this project is to conduct a survey of a nationally representative sample of healthcare facilities in order to estimate the economic costs of providing colonoscopy and flexible sigmoidoscopy for CRC screening and follow-up services. The estimated procedure costs will be compared to the reimbursement rates for both screening procedures in order to determine whether the difference between payments to facilities and costs incurred is a potential barrier to expansion of CRC screening to uninsured or underinsured populations.

The study will also determine whether there are technical factors that enable some facilities to provide larger numbers of endoscopic procedures at lower average costs than other facilities, i.e., whether economies of scale and/or economies of scope exist for certain types of facilities. Results of this study will be used to better define the economics of colorectal cancer screening. There is no cost to the respondents other than their time.

Estimate of Annualized Burden Table
Form type | Number of respondents | Number of responses/respondent | Avg. burden per response (in hrs.) | Total burden of response (in hrs)
Telephone script to identify the appropriate respondent | 2,530 | 1 | 5/60 | 211
Survey of hospital-based outpatient departments | 1,500 | 1 | 4.0 | 6,000
Survey of freestanding ambulatory surgery centers | 800 | 1 | 6.0 | 4,800
Total |  |  |  | 11,011

Dated: May 6, 2005.
Joan F. Karr,
Acting Reports Clearance Officer, Centers for Disease Control and Prevention.

[FR Doc. 05-9558 Filed 5-12-05; 8:45 am]

BILLING CODE 4163-18-P